FEDERAL COMMUNICATIONS COMMISSION

47 CFR Parts 15 and 76

[CS Docket No. 97-80; PP Docket No. 00-67; FCC 10-181]

Implementation of Section 304 of the Telecommunications Act of 1996: Commercial Availability of Navigation Devices; Compatibility Between Cable Systems and Consumer Electronics Equipment

AGENCY: Federal Communications Commission.

ACTION: Final rule; announcement of effective date.

SUMMARY: In this document, the Commission announces that the Office of Management and Budget (OMB) has approved, for a period of three years, the information collection requirements in a final rule concerning commercial availability of navigation devices, and compatibility between cable systems and consumer electronics equipment.

DATES: The amendments to 47 CFR 76.1205(b)(1), 76.1205(b)(1)(i), 76.1205(b)(2), 76.1205(b)(5), and 76.1602(b), published at 76 FR 40263, July 8, 2011, are effective on August 8, 2011.

FOR FURTHER INFORMATION CONTACT: For additional information on this proceeding, contact Brendan Murray, Brendan.Murray@fcc.gov <mailto: Brendan.Murray@fcc.gov>, of the Media Bureau, Policy Division, (202) 418-2120.

SUPPLEMENTARY INFORMATION: In a Third Report and Order and Order on Reconsideration released on October 14, 2011, FCC 10-181, and published in the Federal Register on July 8, 2011, 76 FR 40263, the Federal Communications Commission adopted a new rule which contained information collection requirements subject to the Paperwork Reduction Act. The Third Report and Order and Order on Reconsideration stated that the rule changes requiring OMB approval would become effective upon announcement in the Federal Register of OMB approval. On July 12, 2011, the Office of Management and Budget (OMB) approved the information collection requirements contained in 47 CFR 76.1205(b)(1), 76.1205(b)(1)(i), 76.1205(b)(2), 76.1205(b)(5), and 76.1602(b). These information collections are assigned OMB Control No. 3060-0849 and OMB Control No. 3060-0652. This publication satisfies the statement that the Commission would publish a document announcing the effective date of the rule changes requiring OMB approval.

Federal Communications Commission.
Bulah P. Wheeler,
Deputy Manager, Office of the Secretary, Office of Managing Director.

[FR Doc. 2011-18603 Filed 7-22-11; 8:45 am]

BILLING CODE 6712-01-P